DEPARTMENT OF TRANSPORTATION

Federal Aviation Administration

14 CFR Part 71

[Docket No. FAA-2016-9378; Airspace Docket No. 16-ASW-16]

Proposed Amendment, Revocation, and Establishment of Class D and E Airspace; Enid Vance AFB, OK; Enid Woodring Municipal Airport, OK; Enid, OK; and Vance AFB, OK

AGENCY: Federal Aviation Administration (FAA), DOT.

ACTION: Notice of proposed rulemaking (NPRM).

SUMMARY: This action proposes to: Remove Class D airspace for Enid Woodring Municipal Airport, OK, and Enid Vance AFB, OK; establish Class D airspace for Enid Woodring Regional Airport, Enid, OK, and Vance AFB, Vance AFB, OK; amend Class E airspace designated as a surface area for Enid Woodring Regional Airport; establish Class E airspace designated as a surface area for Vance AFB; remove Class E airspace designated as an extension of Class D and E surface area at Enid Woodring Municipal Airport, OK, and Enid Vance AFB, OK; establish Class E airspace designated as an extension of Class D and E surface area at Enid Woodring Regional Airport and Vance AFB; and amend Class E airspace extending upward from 700 feet above the surface at Enid Woodring Regional Airport. Due to the differing operating hours of the two airports, the airspace descriptions would be separated for safety and management of instrument flight rules (IFR) operations at these airports. Also, airspace redesign is necessary to accommodate new standard instrument approach procedures (SIAPS) at Woodring Regional Airport.

DATES: Comments must be received on or before August 10, 2017.

ADDRESSES: Send comments on this proposal to the U.S. Department of Transportation, Docket Operations, West Building Ground Floor, Room W12-140, 1200 New Jersey Avenue SE., Washington, DC 20590; telephone (202) 366-9826, or 1-800-647-5527. You must identify FAA Docket No. FAA-2016-9378; Airspace Docket No. 16-ASW-16, at the beginning of your comments. You may also submit comments through the Internet at http://www.regulations.gov. You may review the public docket containing the proposal, any comments received, and any final disposition in person in the Dockets Office between 9:00 a.m. and 5:00 p.m., Monday through Friday, except Federal holidays.

FAA Order 7400.11A, Airspace Designations and Reporting Points, and subsequent amendments can be viewed online at http://www.faa.gov/air_traffic/publications/. For further information, you can contact the Airspace Policy Group, Federal Aviation Administration, 800 Independence Avenue SW., Washington, DC, 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part, A, Subpart I, Section 40103. Under that section, the FAA is charged with prescribing regulations to assign the use of airspace necessary to ensure the safety of aircraft and the efficient use of airspace. This regulation is within the scope of that authority as it would amend Class D and E airspace in the Enid, OK, area.

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal. Communications should identify both docket numbers and be submitted in triplicate to the address listed above. Commenters wishing the FAA to acknowledge receipt of their comments on this notice must submit with those comments a self-addressed, stamped postcard on which the following statement is made: “Comments to Docket No. FAA-2016-9378/Airspace Docket No. 16-ASW-16.” The postcard will be date/time stamped and returned to the commenter.

All communications received before the specified closing date for comments will be considered before taking action on the proposed rule. The proposal contained in this notice may be changed in light of the comments received. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received, and any final disposition in person in the Dockets Office (see the ADDRESSES section for the address and phone number) between 9:00 a.m. and 5:00 p.m., Monday through Friday, except federal holidays. An informal docket may also be examined during normal business hours at the Federal Aviation Administration, Air Traffic Organization, Central Service Center, Operations Support Group, 10101 Hillwood Parkway, Fort Worth, TX 76177.

Availability and Summary of Documents for Incorporation by Reference

This document proposes to amend FAA Order 7400.11A, Airspace Designations and Reporting Points, dated August 3, 2016, and effective September 15, 2016. FAA Order 7400.11A is publicly available as listed in the ADDRESSES section of this document. FAA Order 7400.11A lists Class A, B, C, D, and E airspace areas, air traffic service routes, and reporting points.

The Proposal

The FAA is proposing an amendment to Title 14 Code of Federal Regulations (14 CFR) part 71 by:

Removing Class D airspace at Enid Woodring Municipal Airport, OK;

Removing Class D airspace at Enid Vance AFB, OK;

Establishing Class D airspace at Enid Woodring Regional Airport, Enid, OK, within a 4.5-mile radius of the airport; ¹

¹ This Class D airspace would replace the Class D airspace at Enid Woodring Municipal Airport that is being proposed for removal in this action. This proposal would increase the existing 4.1-mile radius around the airport to a 4.5-mile radius. The part-time NOTAM language is included in the new legal description.

Establishing Class D airspace at Vance AFB, Vance AFB, OK, within a 5.1-mile radius of the airport;

Amending Class E airspace designated as a surface area within a 4.5-mile radius (increased from a 4.1-mile radius) of Enid Woodring Regional Airport, Enid, OK, removing the portion within a 5.1-mile radius of Vance AFB, and removing Vance AFB from the airspace description;

Establishing Class E airspace designated as a surface area within a 5.1 mile radius of Vance AFB, Vance AFB, OK;

Removing Class E airspace designated as an extension to Class D or E surface area at Enid Vance AFB, OK;

Removing Class E airspace designated as an extension to Class D or E surface area at Enid Woodring Municipal Airport, OK;

Establishing Class E airspace designated as an extension to Class D or E surface area at Enid Woodring Regional Airport, Enid, OK, with a segment each side of the VOR/DME extending from the 4.5-mile radius of the airport to 7 miles north and 7 miles south of the airport;

Establishing Class E airspace designated as an extension to Class D or E surface area at Vance AFB, Vance AFB, OK, with a segment each side of the Vance VORTAC extending from the 5.1-mile radius to 6.1 miles south of the airport; and

Amending Class E airspace extending upward from 700 feet above the surface at Enid, OK, within a 7-mile radius (increasing from a 6.6-mile radius) of Woodring Regional Airport, removing the Woodring VOR/DME extensions, and updating the name of the airport to coincide with the FAA's aeronautical database.

The FAA determined that due to the differing operating hours of the two airports, the airspace descriptions should be separated for safety and management of IFR operations at these airports. Also, after an airspace review of the Woodring Regional Airport, the FAA found airspace redesign necessary at Enid Woodring Regional Airport to accommodate new SIAPs at the airport and for the safety and management of IFR operations at these airports. The part-time NOTAM information would be included in the airspace descriptions for the new airspace and would be retained in the legal descriptions for the amended airspace.

Class D and E airspace designations are published in paragraph 5000, 6002, 6004, and 6005, respectively, of FAA Order 7400.11A, dated August 3, 2016, and effective September 15, 2016, which is incorporated by reference in 14 CFR 71.1. The Class D and E airspace designations listed in this document will be published subsequently in the Order.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, would not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

Accordingly, pursuant to the authority delegated to me, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016, and effective September 15, 2016, is amended as follows:

Paragraph 5000 Class D Airspace.

* * * * *

ASW OK D Enid Woodring Municipal Airport, OK [Removed]

* * * * *

ASW OK D Enid Vance AFB, OK [Removed]

* * * * *

ASW OK D Enid, OK [New]

Enid Woodring Regional Airport, OK

(Lat. 36°22′33″ N., long. 97°47′22″ W.)

That airspace extending upward from the surface to and including 3,800 feet within a 4.5-mile radius of Enid Woodring Regional Airport, excluding that portion of airspace west of long. 97°51′01″ W. This Class D airspace area is effective during the specific dates and times established in advance by a Notice to Airmen. The effective date and time will thereafter be continuously published in the Chart Supplement.

* * * * *

ASW OK D Vance AFB, OK [New]

Vance AFB, OK

(Lat. 36°20′22″ N., long. 97°55′02″ W.)

Enid Woodring Regional Airport, OK

(Lat. 36°22′33″ N., long. 97°47′22″ W.)

That airspace extending upward from the surface to and including 3,800 feet within a 5.1-mile radius of Vance AFB excluding that portion east of long. 97°51′01″ W., and excluding within a 4.5-mile radius of Enid Woodring Regional Airport. This Class D airspace area is effective during the specific dates and times established in advance by a Notice to Airmen. The effective date and time will thereafter be continuously published in the Chart Supplement.

* * * * *

Paragraph 6002 Class E Airspace Designated as a Surface Area.

* * * * *

ASW OK E2 Enid, OK [Amended]

Enid Woodring Regional Airport, OK

(Lat. 36°22′33″ N., long. 97°47′22″ W.)

That airspace within a 4.5-mile radius of Enid Woodring Regional Airport excluding that portion of airspace west of long. 97°51′01″ W. This Class E airspace area is effective during the specific dates and times established in advance by a Notice to Airmen. The effective date and time will thereafter be continuously published in the Chart Supplement.

* * * * *

ASW OK E2 Vance AFB, OK [New]

Vance AFB, OK

(Lat. 36°20′22″ N., long. 97°55′02″ W.)

Enid Woodring Regional Airport, OK

(Lat. 36°22′33″ N., long. 97°47′22″ W.)

That airspace within a 5.1-mile radius of Vance AFB excluding that portion east of the long. 97°51'01″ W., and excluding within a 4.5-mile radius of Enid Woodring Regional Airport. This Class E airspace area is effective during the specific dates and times established in advance by a Notice to Airmen. The effective date and time will thereafter be continuously published in the Chart Supplement.

* * * * *

Paragraph 6004 Class E Airspace Areas Designated as an Extension to Class D or Class E Surface Areas.

* * * * *

ASW OK E4 Enid Vance AFB, OK [Removed]

ASW OK E4 Enid Woodring Municipal Airport, OK [Removed]

* * * * *

ASW OK E4 Enid, OK [New]

Enid Woodring Regional Airport, OK

(Lat. 36°22′33″ N., long. 97°47′22″ W.)

Woodring VOR/DME

(Lat. 36°22′26″ N., long. 97°47′17″ W.)

That airspace extending upward from the surface within 2.4 miles each side of the 347° radial of the Woodring VOR/DME extending from the 4.5-mile radius of the airport to 7 miles north of the airport, and within 2.4 miles each side of the 177° radial of the Woodring VOR/DME extending from the 4.5-mile radius of the airport to 7 miles south of the airport.

* * * * *

ASW OK E4 Vance AFB, OK [New]

Vance AFB, OK

(Lat. 36°20′22″ N., long. 97°55′02″ W.)

Vance VORTAC

(Lat. 36°20′42″ N., long. 97°55′06″ W.)

That airspace extending upward from the surface within 1.3 miles each side of the 188° radial of the Vance VORTAC extending from the 5.1-mile radius of Vance AFB to 6.1 miles south of the airport.

* * * * *

Paragraph 6005 Class E Airspace Areas Extending Upward From 700 Feet or More Above the Surface of the Earth.

* * * * *

ASW OK E5 Enid, OK [Amended]

Vance AFB, OK

(Lat. 36°20′22″ N., long. 97°55′02″ W.)

Enid Woodring Regional Airport, OK

(Lat. 36°22′33″ N., long. 97°47′22″ W.)

That airspace extending upward from 700 feet above the surface within 8.7 miles east and west of Vance AFB extending to 15.2 miles north and south of Vance AFB, and that airspace extending upward from 700 feet above the surface within a 7-mile radius of Enid Woodring Regional Airport.

Issued in Fort Worth, Texas, on June 19, 2017.
Walter Tweedy,
Acting Manager, Operations Support Group, ATO Central Service Center.

[FR Doc. 2017-13184 Filed 6-23-17; 8:45 am]

BILLING CODE 4910-13-P